DEPARTMENT OF HEALTH AND HUMAN SERVICES

Centers for Disease Control and Prevention

[60Day-06-0255]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Resources and Services for the CDC National Prevention Information Network—(OMB Control No. 0920-0255)—Extension—National Center for HIV, STD, & TB Prevention (NCHSTP), Centers for Disease Control and Prevention (CDC).

Background and Brief Description

The National Center for HIV, STD, and TB Prevention (NCHSTP) proposes to continue data collection for the Resources and Services Database on CDC National Prevention Information Network.

The CDC, NCHSTP program has the primary responsibility within the CDC and the U.S. Public Health Service for the prevention and control of HIV infection, sexually transmitted diseases (STDs), tuberculosis (TB), and related infections, as well as for community-based HIV prevention activities, syphilis and TB elimination programs. To support NCHSTP's mission and to link Americans to prevention, education, and care services, the CDC National Prevention Information Network (NPIN) serves as the U.S. reference, referral, and distribution service for information on HIV/AIDS, STDs, and TB. NPIN is a critical component of the network of government agencies, community organizations, businesses, health professionals, educators, and human services providers that educate the American public about the grave threat to public health posed by HIV/AIDS, STDs, and TB, and provides services for persons infected with human immunodeficiency virus (HIV).

Established in 1988, the NPIN Resources and Services Database contains entries on approximately 15,000 organizations and is the most comprehensive listing of HIV/AIDS, STD and TB resources and services available throughout the country. This database describes national, state and local organizations that provide services related to HIV/AIDS, STDs, and TB, services such as; counseling and testing, prevention, education and support. The NPIN reference staff relies on the Resources and Services Database to respond to thousands of requests each year for information or referral from community based organizations, state and local health departments, and health professionals working in HIV/AIDS, STD and TB prevention. The CDC-INFO (formerly the CDC National AIDS Hotline) staff also uses the NPIN Resources and Services Database to refer up to 500,000 callers each year to local programs for information, services, and treatment. The American public can also access the NPIN Resources and Services database through the NPIN Web site. More than 24 million hits by the public to the Web site are recorded annually.

A representative from each new organization identified will be administered the resource organization questionnaire via the telephone. Representatives may include registered nurses, social and community service managers, health educators, or social and human service assistants. As part of the verification process for organizations currently included in the Resources and Services Database, about 30 percent of the organization's representatives will receive a copy of their current database entry by electronic mail, including an introductory message and a list of instructions. The remaining 70 percent will receive a telephone call to review their database record. This request is for a 3-year renewal of clearance. There are no costs to respondents other than their time.

Estimated Annualized Burden Hours
Form | Respondents | Number of respondents | Number of responses per respondent | Average burden per response (in hours) | Total burden hours
Telephone Script | Registered Nurses | 120 | 1 | 20/60 | 40
| Social and Community Service Managers | 20 | 1 | 10/60 | 3
| Health Educators | 20 | 1 | 13/60 | 4
| Social and Human Service Assistants | 160 | 1 | 15/60 | 40
Subtotal |  | 320 |  |  | 88
Telephone Verification | Registered Nurses | 6,000 | 1 | 10/60 | 1,000
| Social and Community Service Managers | 1,050 | 1 | 10/60 | 175
| Health Educators | 1,050 | 1 | 10/60 | 175
| Social and Human Service Assistants | 8,400 | 1 | 9/60 | 1,260
Subtotal |  | 16,500 |  |  | 2,610
E-mail Verification | Registered Nurses | 2,350 | 1 | 10/60 | 392
| Social and Community Service Managers | 450 | 1 | 12/60 | 90
| Health Educators | 450 | 1 | 10/60 | 75
| Social and Human Service Assistants | 3,600 | 1 | 10/60 | 600
Subtotal |  | 6,850 |  |  | 1,157
Total |  | 23,670 | 3,854 |

Dated: June 15, 2006.
Joan F. Karr,
Acting Reports Clearance Officer, Centers for Disease Control and Prevention.

[FR Doc. E6-9849 Filed 6-21-06; 8:45 am]

BILLING CODE 4163-18-P